DEPARTMENT OF DEFENSE

Office of the Secretary

Notice of Intent To Grant a Partially Exclusive License; Spyris Federal Inc.

AGENCY: National Security Agency (NSA), Department of Defense (DoD).

ACTION: Notice of intent.

SUMMARY: The NSA hereby gives notice of its intent to grant Spyris Federal Inc. a revocable, non-assignable, partially exclusive license to practice the following Government-owned invention described and claimed in United States Patent Number (USPN), US10042928B1, System and Method for Automated Reasoning with and Searching of Documents.

DATES: Anyone wishing to object to the grant of this license has until December 5, 2025 by filing written objections, including evidence and arguments demonstrating that the grant of the license would be inconsistent with the requirements of 35 United States Code (U.S.C.) section 209 and 37 Code of Federal Regulations (CFR) section 404.7.

ADDRESSES: Written objections are to be filed with the National Security Agency Office of Research and Technology Applications, 9800 Savage Road, Suite 6843, Fort George G. Meade, MD 20755-6843.

FOR FURTHER INFORMATION CONTACT: Karen D. Presley, Director, Office of Research and Technology Applications, 9800 Savage Road, Suite 6843, Fort George G. Meade, MD 20755-6843, telephone (443) 634-3519.

SUPPLEMENTARY INFORMATION: The prospective partially exclusive license will comply with the terms and conditions of 35 U.S.C. 209 and 37 CFR 404.7. The patent rights in these inventions have been assigned to the United States Government as represented by the NSA.

Dated: November 18, 2025.
Stephanie J. Bost,
Alternate OSD Federal Register Liaison Officer, Department of Defense.

[FR Doc. 2025-20443 Filed 11-19-25; 8:45 am]

BILLING CODE 6001-FR-P